DEPARTMENT OF ENERGY

Federal Energy Regulatory Commission

[Docket No. AD06-11-000]

Transparency Provisions of the Energy Policy Act of 2005; Second Notice of Technical Conference

September 29, 2006.

On September 5, 2006, the Federal Energy Regulatory Commission (Commission) announced that a conference will be held in the above-referenced proceeding on October 13, 2006, at the Federal Energy Regulatory Commission, 888 First Street, NE., Washington, DC 20426 in the Commission Meeting Room from 9:30 a.m. until 3 p.m. (EDT). The Chairman and Commissioners are expected to attend.

All interested persons are invited to attend. There is no registration fee to attend.

Sections 316 and 1281 of the Energy Policy Act of 2005,¹ respectively, added section 23 to the Natural Gas Act ² and section 220 to the Federal Power Act.³ These sections provide that the Commission may act to facilitate price transparency in wholesale natural gas and electricity markets, and authorize the Commission to adopt such rules as may be necessary to assure the timely dissemination of information about the availability and prices of natural gas and electric energy and transmission service in such markets.

¹ Energy Policy Act of 2005, §§ 316 and 1281, Pub. L. No. 109-59, 119 Stat. 594, 691-92 and 978-79 (2005).

² 15 U.S.C. 717t-2 (2005).

³ 16 U.S.C. 824t (2005).

There will be two panels. The morning panel will focus on natural gas and the afternoon panel will focus on electric energy.

The morning panel (9:30 to 11:30 a.m.), in particular, will focus on facilitating price transparency in markets for the sale or transportation of physical natural gas in interstate commerce. Panelists should be prepared to address the following:

1. What specific information about the availability and prices of natural gas sold at wholesale and in interstate commerce is not available today but should be? Why?

2. How could that information be disseminated?

3. How does either the Commission's historical natural gas jurisdiction or EPAct 2005 give the Commission the authority to collect or disseminate that information or have it collected or disseminated?

4. In the context of its prior efforts, what more (if anything) should the Commission do with respect to the development or publication of natural gas price indices?

The afternoon panel (1 to 3 p.m.), in particular, will focus on facilitating price transparency in markets for the sale and transmission of electric energy in interstate commerce. Panelists should be prepared to address the following:

1. What specific information about the availability and prices of wholesale electric energy and transmission service is not available today but should be? Why?

2. How could that information be disseminated?

3. How does either the Commission's historical electric energy jurisdiction or EPAct 2005 give the Commission the authority to collect or disseminate that information or have it collected or disseminated?

4. In the context of its prior efforts, what more (if anything) should the Commission do with regard to the development or publication of electric price indices?

Prospective panelists are invited to contact Saida Shaalan, by e-mail at Saida.Shaalan@FERC.gov, by Wednesday, October 4, 2006.

Prospective attendees and participants are urged to watch for a further notice, which will identify the panelists.

As previously announced, a free Webcast of this event will be available through http://www.ferc.gov. Anyone with Internet access who desires to view this event can do so by navigating to http://www.ferc.gov's Calendar of Events and locating this event in the Calendar. The event will contain a link to its Webcast. The Capitol Connection provides technical support for the Webcasts and offers access to the meeting via phone bridge for a fee. If you have any questions, visit http://www.CapitolConnection.org or contact Danelle Perkowski or David Reininger at 703-993-3100.

Transcripts of the meeting will be available immediately for a fee from Ace Reporting Company (202-347-3700 or 1-800-336-6646). They will be available for free on the Commission's eLibrary system and on the events calendar approximately one week after the meeting.

FERC conferences and meetings are accessible under section 508 of the Rehabilitation Act of 1973. For accessibility accommodations please send an e-mail to accessibility@ferc.gov or call toll free (866) 208-3372 (voice) or 202-502-8659 (TTY), or send a fax to 202-208-2106 with the required accommodations.

Questions about the conference should be directed to Saida Shaalan, by e-mail at Saida.Shaalan@FERC.gov or by phone at 202-502-8278.

Magalie R. Salas,
Secretary.

[FR Doc. E6-16539 Filed 10-5-06; 8:45 am]

BILLING CODE 6717-01-P